FEDERAL EMERGENCY MANAGEMENT AGENCY

44 CFR Part 67

[Docket No. FEMA-P-7611]

Proposed Flood Elevation Determinations

AGENCY: Federal Emergency Management Agency (FEMA).

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Matthew B. Miller, P.E., Chief, Hazards Study Branch, Federal Insurance and Mitigation Administration, FEMA, 500 C Street, SW., Washington, DC 20472, (202) 646-3461 or (e-mail) matt.miller@fema.gov.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Acting Administrator for Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, flood insurance, reporting and record keeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of Flooding and Location of Referenced Elevation | *Elevation in feet (NGVD): Existing | *Elevation in feet (NGVD): Modified | Communities affected
Bayou Petit Anse-Deblanc Coulee-Segura Branch Canal |  |  | Unincorporated Areas of Iberia Parish.
Approximately 6,100 feet downstream of U.S. Route 90 | None | *9
Approximately 75 feet upstream of U.S. Route 90 | None | *10
Bayou Teche |  |  | Unincorporated Areas of Iberia Parish, City of Jeanerette, City of New Iberia, Village of Loreauville.
Approximately 2,200 feet downstream of Lewis Street | None | *8
Approximately 5,000 feet upstream of State Highway 86 (Daspit Road) | None | *15
Commercial Canal |  |  | Unincorporated Areas of Iberia Parish, City of New Iberia.
Approximately 400 feet downstream of Briarwood Drive | None | *9
Approximately 450 feet upstream of East Admiral Doyle Drive | None | *10
Duboin Canal |  |  | Unincorporated Areas of Iberia Parish, City of New Iberia.
Approximately 2,900 feet downstream of East Admiral Doyle Drive | None | *11
Approximately 3,250 feet upstream of East Admiral Doyle Drive | None | *16
Jacks Coulee |  |  | Unincorporated Areas of Iberia Parish.
Approximately 2,350 feet downstream of U.S. Route 90 | None | *9
Approximately 150 feet upstream of U.S. Route 90 | None | *10
Little Valley Bayou |  |  | Unincorporated Areas of Iberia Parish.
Approximately 750 feet downstream Hardin Street | None | *9
Approximately 575 feet upstream of Smith Road | None | *11
Peebles Coulee |  |  | Unincorporated Areas of Iberia Parish, City of New Iberia.
Approximately 3,225 feet Downstream of Sidney LeBlanc Road | None | *9
Approximately 3,100 feet upsteam of James Romero Drive | *13 | *12
Rodere Canal |  |  | Unincorporated Areas of Iberia Parish, City of New Iberia
Just upstream of Curtis Lane | *10 | *9
Approximately 1,450 feet upstream of Center Street | *11 | *13
Tete Bayou |  |  | Unincorporated Areas Iberia Parish
Approximately 375 feet downstream of Emile Verret Road | None | *13
Approximately 4,450 feet upstream of Emile Verret Road | None | *15
Gulf of Mexico |  |  | City of Jeanerette.
On Landry Street approximately 1,250 feet southwest of the intersection of Landry Street and Patricia Ann Lane | None | *9
*National Geodetic Vertical Datum
Maps are available for inspection at the Iberia Parish Courthouse, 300 Iberia Street, New Iberia, Louisiana.
Send comments to The Honorable Will Langlinais, Iberia Parish President, Parish Courthouse, 300 Iberia Street, Suite 400, New Iberia, Louisiana 70560.
Maps are available for inspection at City Hall, 1010 East Main Street, Jeanerette, Louisiana.
Send comments to The Honorable Arthur L. Verret, Mayor, City of Jeanerette, City Hall, 1010 East Main Street, Jeanerette, Louisiana 70544.
Maps are available for inspection at the Town Hall, 103 South Main Street, Loreauville, Louisiana.
Send comments to the Honorable Forbus Mestayer, Mayor, Village of Loreauville, Town Hall, 103 South Main Street, Loreauville, Louisiana 70552.
Maps are available for inspection at City Hall, 457 East Main Street, New Iberia, Louisiana.
Send comments to The Honorable Ruth Fontenot, Mayor, City of New Iberia, City Hall, 457 East Main Street, Suite 300, New Iberia, Louisiana 70560.
East Marley Creek |  |  | Village of Mokena, Will County.
Approximately 800 feet downstream of Wolf Road | *680 | *679
Just downstream of 104th Street | *687 | *686
Maps are available for inspection at the Village Hall, 11004 Carpenter Street, Mokena, Illinois.
Send comments to Mr. Paul Pearson, Mokena Village Engineer, 11004 Carpenter Street, Mokena, Illinois 60448.
Maps are available for inspection at the Land Use Department, Subdivision Engineering Division, 58 E. Clinton Street, Joliet, Illinois.
Send comments to The Honorable Joseph L. Mikan, Will County Executive, 302 N. Chicago Street, Joliet, Illinois 60432.
Elkhorn River |  |  | Madison County, City of Tilden, Village of Meadow.
Approximately 4,800 feet | None | *1498
*National Geodetic Vertical Datum
Elkhorn River |  |  | Grove, City of Norfolk, Village of Battle Creek.
Downstream of 558th Avenue |  |
Approximately 300 feet upstream of Center Street/534th Avenue | None | *1657
Union Creek |  |  | Madison County
Approximately 1.9 miles upstream of 3rd Street | None | *1589
Approximately 1.7 miles upstream of 3rd Street | None | *1588
*National Geodetic Vertical Datum
Maps are available for inspection at Zoning Administration, 1112 Bonita Drive, Norfolk, Nebraska.
Send comments to Mr. Jerry McCallum, Chairman, Madison County Commissioner, Madison County Courthouse, PO Box 110, Madison, Nebraska 68748.
Maps are available for inspection at the City Clerk's Office, 202 South Center, Tilden, Nebraska.
Send comments to The Honorable Steve Rutjens, Mayor, City of Tilden, PO Box 37, Tilden, Nebraska 68781.
Maps are available for inspection at 102 South Second Street, Battle Creek, Nebraska.
Send comments to The Honorable Bob Buckendahl, Mayor, City of Battle Creek, PO Box 280, Battle Creek, Nebraska 68715.
Maps are available for inspection at 208 Main Street, Meadow Grove, Nebraska.
Send comments to Rita Sparr, Chairperson, Village of Meadow Grove, PO Box 166, Meadow Grove, Nebraska 68752.
Maps are available for inspection at 701 Koeningstein Avenue, Norfolk, Nebraska.
Send comments to The Honorable Gordon Adams, Mayor, City of Norfolk, PO Box 110, Norfolk, Nebraska 68701.
Scioto River |  |  | Unincorporated Areas of Ross County, City of Chillicothe.
Approximately 0.1 mile upstream of Main Street | *618 | *619
Approximately 3.2 miles upstream of U.S. Highway 35 | *632 | *631
*National Geodetic Vertical Datum
Maps are available for inspection at the Ross County Engineering Building, 755 Fairgrounds Road, Chillicothe, Ohio.
Send comments to Mr. James M. Caldwell, Ross County President of Commissioners, Ross County Courthouse, 2 North Paint Street, Suite H, Chillicothe, Ohio 45601.
Maps are available for inspection at City Office, 118 East Main Street, Bainbridge, Ohio.
Send comments to The Honorable Bryan Bobb, Mayor, Village of Bainbridge, 118 East Main Street, Bainbridge, Ohio 45612.
Maps are available for inspection at the Administration Building, 35 South Paint Street, Chillicothe, Ohio.
Send comments to The Honorable Margaret Planton, Mayor, City of Chillicothe, 35 South Paint Street, Chillicothe, Ohio 45601.
Elm Creek |  |  | City of Grove, Delaware County.
Approximately 700 feet downstream of South Main Street | None | *756
Approximately 2,700 feet upstream of N4640 Road | None | *837
Flint Creek |  |  | Delaware County.
Approximately 6,850 feet downstream of U.S. 59 | None | *858
Approximately 1,100 feet upstream of D 579 Road (Beckwith Bridge) | None | *889
Grand Lake of the Cherokees |  |  | City of Grove, Town of Bernice, Delaware County.
Entire shoreline | None | *756
Illinois River |  |  | Delaware County.
Approximately 7,150 feet downstream of the confluence of Flint Creek | None | *851
Approximately 5,850 feet upstream of the confluence of Flint Creek | None | *863
North Tributary to Spring Branch |  |  | Delaware County.
Approximately 350 feet upstream of North Cherokee Street | None | *753
|  |  | Delaware County.
Approximately 1,100 feet downstream of North Cherokee Street | None | *756
*National Geodetic Vertial Datum
Maps are available for inspection at the Floodplain Administrator's Office, Delaware County Courthouse, Jay, Oklahoma.
Send comments to Ms. Pat Lynam, Floodplain Administrator, Delaware County Court House, PO Box 550, Jay, Oklahoma 74346.
Maps are available for inspection at the City Manager's Office, City of Grove, 104 West 3rd Street, Grove, Oklahoma.
Send comments to Mr. Richard Ball, City Manager, City of Grove, Court House, PO Box 1268, Grove, Oklahoma 74345.
Maps are available for inspection at the Mayor's Office, Town of Bernice, 400 East Main, Bernice, Oklahoma.
Send comments to The Honorable Bill Raven, Mayor, Town of Bernice, 400 East Main, Bernice, Oklahoma 74331.
Alsuma Creek |  |  | City of Tulsa.
Approximately 200 feet upstream of Missouri Kansas Texas Railroad | *666 | *668
Approximately 150 feet upstream of East 55th Street | None | *680
Audubon Creek |  |  | City of Tulsa.
At the mouth | *638 | *637
Approximately 1,600 feet upstream of East 31st Street South | *674 | *673
Bell Creek |  |  | City of Tulsa.
At the mouth | *645 | *644
Approximately 1,200 feet upstream of East 41st Street South | None | *671
Bell Creek Tributary |  |  | City of Tulsa.
At the mouth | *656 | *652
Just downstream of 50th Street South | *680 | *682
Brookhollow Creek |  |  | City of Tulsa.
Approximately 150 feet downstream of Mingo Road | *641 | *640
Approximately 150 feet downstream of South 129th East Avenue | *693 | *692
Catfish Creek |  |  | City of Tulsa.
Approximately 50 feet upstream of Railroad Bridge | *669 | *668
Just downstream of East 61st Street | *681 | *678
Cooley Creek |  |  | City of Tulsa.
At the mouth | *618 | *615
At the county boundary | *695 | *699
Douglas Creek |  |  | City of Tulsa, Tulsa County.
At the mouth | *611 | *609
Just downstream of State Highway 11 | None | *630
Eagle Creek |  |  | City of Tulsa.
At the mouth | *607 | *608
Approximately 2,600 feet upstream of East Pine Street | *654 | *655
Ford Creek |  |  | City of Tulsa.
At the mouth | *663 | *661
Just down of East 51st Street South | *720 | *719
Fulton Creek |  |  | City of Tulsa.
At the mouth | *648 | *647
Approximately 200 feet downstream of 39th Street | *667 | *666
Jones Creek |  |  | City of Tulsa.
At the mouth | *631 | *629
Approximately 200 feet upstream of 69th East Avenue | *687 | *686
Little Creek |  |  | City of Tulsa.
Approximately 1,200 feet downstream of Mingo Valley Expressway (highway 169) | *601 | *602
Just downstream of 129th East Avenue | *650 | *649
Mill Creek |  |  | City of Tulsa.
At the mouth | *623 | *622
Just downstream of East 15th Street | *729 | *727
Mingo Creek |  |  | City of Tulsa, Tulsa County.
Approximately 600 feet upstream of East 56th Street North | *590 | *589
Approximately 500 feet downstream of South Memorial Drive | *723 | *724
Quarry Creek |  |  | City of Tulsa.
Approximately 350 feet upstream of the mouth | *605 | *604
Just downstream of North 145th East Avenue | *681 | *680
Southpark Creek |  |  | City of Tulsa.
At the mouth | *653 | *652
Approximately 6,150 feet upstream of Garnett Road | None | *688
Sugar Creek |  |  | City of Tulsa.
At the mouth | *648 | *647
Just downstream of South 129th | *694 | *692
Tupelo Creek |  |  | City of Tulsa.
Approximately 200 feet upstream of Mingo Road | *622 | *621
Approximately 700 feet upstream of East 16th Street | *662 | *661
Tupelo Creek Tributary A |  |  | City of Tulsa.
At the mouth | *648 | *647
Just downstream of South 129th East Avenue | None | *696
Tupelo Creek Tributary C |  |  | City of Tulsa.
Approximately 200 feet downstream of South Garnett Road | *642 | *643
Just downstream of South 129th East Avenue | None | *697 *National Geodetic Vertical Datum
Maps are available for inspection at 200 Civic Center, Tulsa, Oklahoma.
Send comments to The Honorable Jack Page, Floodplain Administrator, City of Tulsa, 111 South Greenwood, Suite 300, Tulsa, Oklahoma 74120.
Maps are available for inspection at the Tulsa County Annex Building, 633 West 3rd, Room 140, Tulsa, Oklahoma.
Send comments to The Honorable Robert Dick, Chairperson, Tulsa County Board of Commissioners, Tulsa County, 500 South Denver, Tulsa, Oklahoma 74103.
For further information please, contact the Map Assistance Center toll free at 1-877-FEMA-Map (1-877-336-2627).

(Catalog of Federal Domestic Assistance No. 83.100, “Flood Insurance”)

Dated: July 15, 2002.
Robert F. Shea,
Acting Administrator, Federal Insurance and Mitigation Administration.

[FR Doc. 02-18529 Filed 7-22-02; 8:45 am]

BILLING CODE 6718-04-P